DEPARTMENT OF ENERGY

Federal Energy Regulatory Commission

Combined Notice of Filings #1

Take notice that the Commission received the following electric corporate filings:

Docket Numbers: EC26-34-000.

Applicants: Allora Solar, LLC, PGR 2021 Lessee 19, LLC, PGR 2021 Lessee 12, LLC, PGR 2021 Lessee 15, LLC, PGR 2021 Lessee 11, LLC, Cabin Creek Solar, LLC, Gunsight Solar, LLC, Phobos Solar, LLC, Foley Solar, LLC, East Atmore Solar, LLC, Summit Infrastructure LLC.

Description: Joint Application for Authorization Under Section 203 of the Federal Power Act of Allora Solar, LLC, et al.

Filed Date: 12/5/25.

Accession Number: 20251205-5340.

Comment Date: 5 p.m. ET 12/26/25.

Docket Numbers: EC26-35-000.

Applicants: Wisconsin Electric Power Company.

Description: Application for Authorization Under Section 203 of the Federal Power Act of Wisconsin Electric Power Company.

Filed Date: 12/5/25.

Accession Number: 20251205-5341.

Comment Date: 5 p.m. ET 12/26/25.

Docket Numbers: EC26-36-000.

Applicants: Entergy Power, LLC.

Description: Application for Authorization Under Section 203 of the Federal Power Act of Entergy Power, LLC.

Filed Date: 12/5/25.

Accession Number: 20251205-5352.

Comment Date: 5 p.m. ET 12/26/25.

Take notice that the Commission received the following exempt wholesale generator filings:

Docket Numbers: EG26-90-000.

Applicants: Forgeview Interconnection, LLC.

Description: Forgeview Interconnection, LLC submits Notice of Self-Certification of Exempt Wholesale Generator Status.

Filed Date: 12/8/25.

Accession Number: 20251208-5126.

Comment Date: 5 p.m. ET 12/29/25.

Docket Numbers: EG26-91-000.

Applicants: Flat Fork Interconnection, LLC.

Description: Flat Fork Interconnection, LLC submits Notice of Self-Certification of Exempt Wholesale Generator Status.

Filed Date: 12/8/25.

Accession Number: 20251208-5129.

Comment Date: 5 p.m. ET 12/29/25.

Take notice that the Commission received the following electric rate filings:

Docket Numbers: ER10-3285-005; ER10-3177-003.

Applicants: UGI Energy Services, Inc., UGI Utilities Inc.

Description: Triennial Market Power Analysis for Northeast Region of UGI Utilities, Inc., et al.

Filed Date: 12/4/25.

Accession Number: 20251204-5206.

Comment Date: 5 p.m. ET 2/2/26.

Docket Numbers: ER14-199-004.

Applicants: Lakewood Cogeneration, L.P.

Description: Refund Report: Refund Report to be effective N/A.

Filed Date: 12/8/25.

Accession Number: 20251208-5285.

Comment Date: 5 p.m. ET 12/29/25.

Docket Numbers: ER14-1480-004.

Applicants: KMC Thermo, LLC.

Description: Compliance filing: Settlement Compliance Filing to be effective 8/11/2022.

Filed Date: 12/8/25.

Accession Number: 20251208-5292.

Comment Date: 5 p.m. ET 12/29/25.

Docket Numbers: ER18-1156-006.

Applicants: St. Joseph Energy Center, LLC.

Description: Compliance filing: Settlement Compliance Filing to be effective 11/8/2024.

Filed Date: 12/8/25.

Accession Number: 20251208-5294.

Comment Date: 5 p.m. ET 12/29/25.

Docket Numbers: ER20-2452-008.

Applicants: Hamilton Liberty LLC.

Description: Refund Report: Refund Report to be effective N/A.

Filed Date: 12/8/25.

Accession Number: 20251208-5262.

Comment Date: 5 p.m. ET 12/29/25.

Docket Numbers: ER20-2453-009.

Applicants: Hamilton Patriot LLC.

Description: Refund Report: Refund Report to be effective N/A.

Filed Date: 12/8/25.

Accession Number: 20251208-5273.

Comment Date: 5 p.m. ET 12/29/25.

Docket Numbers: ER21-1807-010.

Applicants: Hill Top Energy Center LLC.

Description: Compliance filing: Settlement Compliance Filing to be effective 4/1/2025.

Filed Date: 12/8/25.

Accession Number: 20251208-5291.

Comment Date: 5 p.m. ET 12/29/25.

Docket Numbers: ER22-291-002.

Applicants: PSEG Fossil LLC.

Description: Compliance filing: Parkway Generation Operating LLC submits tariff filing per 35: Settlement Compliance Filing to be effective 12/29/2021.

Filed Date: 12/8/25.

Accession Number: 20251208-5299.

Comment Date: 5 p.m. ET 12/29/25.

Docket Numbers: ER26-198-000.

Applicants: GCF US Holdings LLC.

Description: Response to 11/25/2025, Deficiency Letter of GCF US Holdings LLC.

Filed Date: 12/8/25.

Accession Number: 20251208-5261.

Comment Date: 5 p.m. ET 12/29/25.

Docket Numbers: ER26-198-001.

Applicants: GCF US Holdings LLC.

Description: Tariff Amendment: Response to Deficiency Notice to be effective 12/1/2025.

Filed Date: 12/5/25

Accession Number: 20251205-5329.

Comment Date: 5 p.m. ET 12/26/25.

Docket Numbers: ER26-678-000.

Applicants: Crowned Ridge Energy Storage I, LLC.

Description: 205(d) Rate Filing: Crowned Ridge Energy Storage I, LLC MBR Application to be effective 2/4/2026.

Filed Date: 12/5/25.

Accession Number: 20251205-5284.

Comment Date: 5 p.m. ET 12/26/25.

Docket Numbers: ER26-679-000.

Applicants: Tuscola II Energy Storage, LLC.

Description: 205(d) Rate Filing: Tuscola II Energy Storage MBR Application to be effective 2/4/2026.

Filed Date: 12/5/25.

Accession Number: 20251205-5286.

Comment Date: 5 p.m. ET 12/26/25.

Docket Numbers: ER26-680-000.

Applicants: Tournesol Solar, LLC.

Description: 205(d) Rate Filing: Tournesol Solar, MBR Application to be effective 2/4/2026.

Filed Date: 12/5/25.

Accession Number: 20251205-5290.

Comment Date: 5 p.m. ET 12/26/25.

Docket Numbers: ER26-681-000.

Applicants: Dunns Bridge Solar II, LLC.

Description: 205(d) Rate Filing: Dunns Bridge Solar II, LLC MBR Application to be effective 2/4/2026.

Filed Date: 12/5/25.

Accession Number: 20251205-5293.

Comment Date: 5 p.m. ET 12/26/25.

Docket Numbers: ER26-682-000.

Applicants: Scarborough Solar, LLC.

Description: 205(d) Rate Filing: Scarborough Solar MBR Application to be effective 2/4/2026.

Filed Date: 12/5/25.

Accession Number: 20251205-5296.

Comment Date: 5 p.m. ET 12/26/25.

Docket Numbers: ER26-683-000.

Applicants: Reynolds Solar, LLC.

Description: 205(d) Rate Filing: Reynolds Solar MBR Application to be effective 2/4/2026.

Filed Date: 12/5/25.

Accession Number: 20251205-5298.

Comment Date: 5 p.m. ET 12/26/25.

Docket Numbers: ER26-684-000.

Applicants: Flat Fork Interconnection, LLC.

Description: 205(d) Rate Filing: Flat Fork Interconnection MBR Application to be effective 2/4/2026.

Filed Date: 12/5/25.

Accession Number: 20251205-5302.

Comment Date: 5 p.m. ET 12/26/25.

Docket Numbers: ER26-685-000.

Applicants: New Madrid Energy Storage, LLC.

Description: 205(d) Rate Filing: New Madrid Energy Storage MBR Application to be effective 2/4/2026.

Filed Date: 12/5/25.

Accession Number: 20251205-5304.

Comment Date: 5 p.m. ET 12/26/25.

Docket Numbers: ER26-686-000.

Applicants: Merom Solar, LLC.

Description: 205(d) Rate Filing: Merom Solar MBR Application to be effective 2/4/2026.

Filed Date: 12/5/25.

Accession Number: 20251205-5308.

Comment Date: 5 p.m. ET 12/26/25.

Docket Numbers: ER26-687-000.

Applicants: Forgeview Interconnection, LLC.

Description: 205(d) Rate Filing: Forgeview Interconnection MBR Application to be effective 2/4/2026.

Filed Date: 12/5/25.

Accession Number: 20251205-5311.

Comment Date: 5 p.m. ET 12/26/25.

Docket Numbers: ER26-688-000.

Applicants: Mayhew Lake Energy Storage, LLC.

Description: 205(d) Rate Filing: Mayhew Lake Energy Storage MBR Application to be effective 2/4/2026.

Filed Date: 12/5/25.

Accession Number: 20251205-5314.

Comment Date: 5 p.m. ET 12/26/25.

Docket Numbers: ER26-689-000.

Applicants: Forgeview Surplus Energy Storage, LLC.

Description: 205(d) Rate Filing: Forgeview Surplus Energy Storage MBR Application to be effective 2/4/2026.

Filed Date: 12/5/25.

Accession Number: 20251205-5318.

Comment Date: 5 p.m. ET 12/26/25.

Docket Numbers: ER26-690-000.

Applicants: Iberville Energy Storage, LLC.

Description: 205(d) Rate Filing: Iberville Energy Storage MBR Application to be effective 2/4/2026.

Filed Date: 12/5/25.

Accession Number: 20251205-5322.

Comment Date: 5 p.m. ET 12/26/25.

Docket Numbers: ER26-691-000.

Applicants: Geaux Energy Storage, LLC.

Description: 205(d) Rate Filing: Geaux Energy Storage MBR Application to be effective 2/4/2026.

Filed Date: 12/5/25.

Accession Number: 20251205-5326.

Comment Date: 5 p.m. ET 12/26/25.

Docket Numbers: ER26-692-000.

Applicants: Southwestern Public Service Company.

Description: Request for Limited Waiver, et al. of Southwestern Public Service Company.

Filed Date: 12/5/25.

Accession Number: 20251205-5331.

Comment Date: 5 p.m. ET 12/26/25.

Docket Numbers: ER26-693-000.

Applicants: Six One Energy Corporation.

Description: 205(d) Rate Filing: Notice of Succession to be effective 12/9/2025.

Filed Date: 12/8/25.

Accession Number: 20251208-5132.

Comment Date: 5 p.m. ET 12/29/25.

Docket Numbers: ER26-694-000.

Applicants: PacifiCorp.

Description: 205(d) Rate Filing: Calpine NITSA Rev 20 (SA No. 299) to be effective 1/1/2026.

Filed Date: 12/8/25.

Accession Number: 20251208-5148.

Comment Date: 5 p.m. ET 12/29/25.

Docket Numbers: ER26-695-000.

Applicants: PJM Interconnection, L.L.C.

Description: 205(d) Rate Filing: DEA, SA No. 7744 between PJM and PPL Electric Utilities Corp. to be effective 11/7/2025.

Filed Date: 12/8/25.

Accession Number: 20251208-5220.

Comment Date: 5 p.m. ET 12/29/25.

Docket Numbers: ER26-696-000.

Applicants: Dodge Flat Energy Storage, LLC.

Description: 205(d) Rate Filing: Dodge Flat Energy Storage—Application for MBR Authorization—Refile to be effective 2/7/2026.

Filed Date: 12/8/25.

Accession Number: 20251208-5268.

Comment Date: 5 p.m. ET 12/29/25.

Docket Numbers: ER26-697-000.

Applicants: Heartwood Solar, LLC.

Description: 205(d) Rate Filing: Revised Market-Based Rate Tariff Filing to be effective 1/7/2026.

Filed Date: 12/8/25.

Accession Number: 20251208-5278.

Comment Date: 5 p.m. ET 12/29/25.

Take notice that the Commission received the following electric securities filings:

Docket Numbers: ES26-21-000.

Applicants: Mid-Atlantic Interstate Transmission, LLC.

Description: Application Under Section 204 of the Federal Power Act for Authorization to Issue Securities of Mid-Atlantic Interstate Transmission, LLC.

Filed Date: 12/4/25.

Accession Number: 20251204-5205.

Comment Date: 5 p.m. ET 12/26/25.

Docket Numbers: ES26-22-000.

Applicants: ITC Great Plains, LLC.

Description: Application Under Section 204 of the Federal Power Act for Authorization to Issue Securities of ITC Great Plains, LLC.

Filed Date: 12/5/25.

Accession Number: 20251205-5350.

Comment Date: 5 p.m. ET 12/26/25.

Docket Numbers: ES26-23-000.

Applicants: Entergy Arkansas, LLC.

Description: Application Under Section 204 of the Federal Power Act for Authorization to Issue Securities of Entergy Arkansas, LLC.

Filed Date: 12/8/25.

Accession Number: 20251208-5283.

Comment Date: 5 p.m. ET 12/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 8, 2025.
Carlos D. Clay,
Deputy Secretary.

[FR Doc. 2025-22549 Filed 12-10-25; 8:45 am]

BILLING CODE 6717-01-Pall (202) 502-8659.[P]For public inquiries and assistance with making filings such as interventions,[P]comments, or requests for rehearing, contact the Office of Public Participation